POSTAL SERVICE

Sunshine Act Meetings; Temporary Emergency Committee of the Board of Governors

FEDERAL REGISTER CITATION OF PREVIOUS ANNOUNCEMENT: 84 FR 6183.

PREVIOUSLY ANNOUNCED TIME AND DATE OF THE MEETING: Monday, March 4, 2019, at 9:30 a.m.

CHANGES IN THE MEETING: The meeting has been cancelled and is not rescheduled.

CONTACT PERSON FOR MORE INFORMATION: Michael J. Elston, Acting Secretary of the Board, U.S. Postal Service, 475 L'Enfant Plaza SW, Washington, DC 20260-1000. Telephone: (202) 268-4800.

Michael J. Elston,
Acting Secretary.

[FR Doc. 2019-05373 Filed 3-18-19; 11:15 am]

BILLING CODE 7710-12-P